DEPARTMENT OF HEALTH AND HUMAN SERVICES

Administration for Children and Families

Health Resources and Services Administration

Notice of Meeting: Advisory Committee on the Maternal, Infant and Early Childhood Home Visiting Program Evaluation

ACTION: Notice of meeting: Advisory Committee on the Maternal, Infant and Early Childhood Home Visiting Program Evaluation (MIECHVPE).

Authority: Section 511(g)(1) of the Social Security Act (42 U.S.C. 711(g)) and Section 10(a)(2) of the Federal Advisory Committee Act (Pub. L. 92-463).

Name: Advisory Committee on the Maternal, Infant, and Early Childhood Home Visiting Program Evaluation.

Date and Time: Monday, September 21, 2015, 11 a.m.-6 p.m. EST.

Place: Webinar.

The Advisory Committee on the Maternal, Infant and Early Childhood Home Visiting Program Evaluation (Committee) will meet for its fifth session on Monday, September 21, 2015, 11 a.m.-6 p.m. ET. The purpose of the meeting is to allow the Committee to comment on the analysis plan of the MIHOPE project. The general public (“attendees”) can join the meeting via webinar by logging onto https://attendee.gotowebinar.com/register/8910471186935462146, and then follow the instructions for registering. Attendees should launch the webinar no later than 10:45 a.m. ET in order for the logistics to be established for participation in the call. If there are technical problems gaining access to the call or webinar, please call 888-569-3848 or press *0, and for GoToWebinar technical support call 800-263-6317.

Meeting Registration: Attendees are asked to register for the conference by going to the registration Web site at https://attendee.gotowebinar.com/register/8910471186935462146.

Special Accommodations: Attendees with special needs requiring accommodations such as large print materials or other accommodations may make requests when registering at the online Web site by answering the “Special accommodations” question on the registration page: https://attendee.gotowebinar.com/register/8910471186935462146.

Agenda: The meeting will include updates on the progress of the evaluation and will present the evaluation's impact, implementation, impact variation, and cost data analysis plans. Agenda items are subject to change as priorities dictate.

Public Comments: Members of the public may submit written comments that will be distributed to Committee members prior to the meeting. Written comments must be received by Monday, September 14, 2015 for consideration. Comments can be submitted to Nancy Margie at Nancy.Margie@acf.hhs.gov.

FOR FURTHER INFORMATION CONTACT: Any person interested in obtaining other information relevant to joining the webinar can contact Carolyn Swaney at Carolyn.Swaney@icfi.com.

SUPPLEMENTARY INFORMATION: The Advisory Committee on the Maternal, Infant and Early Childhood Home Visiting (MIECHV) Program Evaluation is authorized by subsection 511(g)(1) of Title V of the Social Security Act (42 U.S.C. 711(g)(1)) as added by section 2951 of the Patient Protection and Affordable Care Act of 2010 (Pub. L. 111-148) (Affordable Care Act) and amended by Public Law 114-10 (Medicare Access and CHIP Reauthorization Act of 2015), Section 218.

The purpose of the Committee is to review, and make recommendations on, the design and plan for the evaluation required under paragraph 511(g)(2); maintain and advise the Secretary regarding the progress of the evaluation; and comment, if the Committee so desires, on the report submitted to Congress under subsection 511(g)(3).

The Department of Health and Human Services has contracted with MDRC (formerly known as Manpower Demonstration Research Corporation), a nonprofit, nonpartisan education and social policy research organization, to conduct the evaluation of the MIECHV program.

As specified in the legislation, the evaluation provided a state-by-state analysis of the needs assessments and the States' actions in response to the assessments. Additionally, as specified in the legislation, the evaluation will provide an assessment of: (a) T he effect of early childhood home visiting programs on outcomes for parents, children, and communities with respect to domains specified in the authorizing legislation (such as maternal and child health status, school readiness, and domestic violence, among others); (b) the effectiveness of such programs on different populations, including the extent to which the ability to improve participant outcomes varies across programs and populations; and (c) the potential for the activities conducted under such programs, if scaled broadly, to enhance health care practices, eliminate health disparities, improve health care system quality, and reduce costs.

Naomi Goldstein,
Director, Office of Planning, Research, and Evaluation, ACF.
Michael Lu,
Associate Administrator, Maternal and Child Health Bureau, HRSA.

[FR Doc. 2015-21332 Filed 9-3-15; 8:45 am]

BILLING CODE 4184-74-P